DEPARTMENT OF COMMERCE

International Trade Administration

[A-588-046]

Polychloroprene Rubber From Japan: Initiation and Preliminary Results of Changed Circumstances Review, and Intent to Revoke Antidumping Duty Finding, in Part

Correction

In notice document E8-22458 beginning on page 56548 in the issue of Monday, September 29, 2008, make the following corrections:

1. On page 56548, in the third column, under the heading Background, in the second paragraph, in the third line, “Polychloroprene Rubber from Japan: Final Changed Circumstances Review and Determination to Revoke Finding in Part” should read “See Polychloroprene Rubber from Japan: Final Changed Circumstances Review and Determination to Revoke Finding in Part”.

2. On page 56549, in the first column, in the first full paragraph, in the 10th line, “and does include aqueous dispersions of” should read “and does not include aqueous dispersions of”.

3. On the same page, in the same column, in the same paragraph, in the 20th line, “dispersions of these polymers and does” should read “dispersions of these polymers and does not”.

4. On the same page, in the same column, in the same paragraph, in the 30th line “in solid form and does include aqueous” should read “in solid form and does not include aqueous”.

5. On the same page, in the same column, under the heading Initiation and Preliminary Results of Changed Circumstances Review, and Intent To Revoke Antidumping Finding, in Part, in the first paragraph, in the fifth line, “i.e.; a” should read “i.e, a”.

6. On the same page, in the second column, in the first paragraph, in the fifth line, “19 CFR 351.216(d)” should read “See 19 CFR 351.216(d)”.

7. On the same page, in the third column, in the first paragraph, in the seventh line, “pH of S” should read “pH of 8”.

8. On the same page, in the same column, in the same paragraph, in the 10th line, “and does pp include aqueous” should read “and does not include aqueous”.

9. On the same page, in the same column, in the same paragraph, in the 21st line, “and does include aqueous” should read “and does not include aqueous”.

10. On the same page, in the same column, under the heading Public Comment, in the first paragraph, in the ninth and 10th lines, “19 CFR 351.309(d)” should read “See 19 CFR 351.309(d)”.

11. On page 56550, in the first column, in the first full paragraph, in the first line, “Consistent with 19 CFR 35l.216(e)” should read “Consistent with 19 CFR 351.216(e)”.

12. On the same page, in the same column, in same paragraph, in the 16th and 17th lines, “See 19 CFR 35l.222(g)(4)” should read “See 19 CFR 351.222(g)(4)”.

[FR Doc. Z8-22458 Filed 10-24-08; 8:45 am]

BILLING CODE 1505-01-D